DEPARTMENT OF THE INTERIOR

Fish and Wildlife Service

Information Collection Submitted to the Office of Management and Budget (OMB) for Approval Under the Paperwork Reduction Act; Grant Agreement and Amendment to Grant Agreement

AGENCY: Fish and Wildlife Service, Interior.

ACTION: Notice; request for comments.

SUMMARY: The U.S. Fish and Wildlife Service (We) has submitted the collection of information listed below to OMB for approval under the provisions of the Paperwork Reduction Act. A copy of the information collection requirement is included in this notice. If you wish to obtain copies of the proposed information collection requirement, related forms, or explanatory material, contact the Service Information Collection Clearance Officer at the address listed below.

DATES: OMB has up to 60 days to approve or disapprove an information collection but may respond after 30 days. Therefore, to ensure maximum consideration, your comments should be received by OMB by October 17, 2003.

ADDRESSES: Submit your comments on this information collection renewal to the Desk Officer for the Department of the Interior at OMB-OIRA via facsimile or e-mail using the following fax number or e-mail address: (202) 395-6566 (fax); OIRA_DOCKET@omb.eop.gov (e-mail). Please provide a copy of your comments to the Fish and Wildlife Service's Information Collection Clearance Officer, 4401 N. Fairfax Dr., MS 222 ARLSQ, Arlington, VA 22207; (703) 358-2269 (fax); or anissa_craghead@fws.gov (e-mail).

FOR FURTHER INFORMATION CONTACT: To request a copy of the information collection request, explanatory information, or related forms, contact Anissa Craghead at (703) 358-2445, or electronically to anissa_craghead@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). We have submitted a request to OMB to renew its approval of the collection of information for the Grant Agreement and Amendment to Grant Agreement. We are requesting a 3-year term of approval for this information collection activity.

Federal agencies may not conduct or sponsor, and a person is not required to respond to, a collection of information unless it displays a currently valid OMB control number. The OMB control number for this collection of information is 1018-0049.

Under the authority of the Federal Aid in Wildlife Restoration Act (16 U.S.C. 669-669i), the Federal Aid in Sport Fish Restoration Act (16 U.S.C. 777-777l), the Endangered Species Act (16 U.S.C. 1531 et seq.), the Clean Vessel Act (16 U.S.C. 777c), the Sportfishing and Boating Safety Act (16 U.S.C. 777g-1), and the Coastal Wetlands Planning, Protection, and Restoration Act (16 U.S.C. 3951-3956), we administer several grant programs. We use the information collected in grant applications and agreements to make awards under these grant programs. The information collected on the grant applications and agreements helps us determine whether the estimated cost of the grant project is reasonable, the cost sharing is consistent with the applicable program statutes, and sufficient Federal funds are available for obligation. The State or other grantee uses the grant application forms and agreements to request funds and identify proposed cost sharing. Grantees complete an Amendment to Grant Agreement to request a change to a previously approved Grant Agreement. We use the Amendment to Grant Agreement to revise a previous funding obligation or otherwise document the approval of a revision. The Grant Agreement and Amendment to Grant Agreement that we have submitted to OMB for approval are modified slightly to lesson the burden on the public and to make them easier for the Service to use.

Title: Grant Agreement and Amendment to Grant Agreement.

Approval Number: 1018-0049.

Service Form Numbers: 3-1552 (Grant Agreement) and 3-1591 (Amendment to Grant Agreement).

Frequency of Collection: Annually (Grant Agreement) and on occasion (Amendment to Grant Agreement).

Description of Respondents: State, territorial (the Commonwealth of Puerto Rico, the District of Columbia, the Commonwealth of the Northern Mariana Islands, Guam, the Virgin Islands, and American Samoa), and local governments, and others receiving grant funds.

Total Annual Burden Hours:

Form name | Completion time per form (per hour) | Annual number of responses | Annual hour burden
Grant Agreement | 1 | 3500 | 3500
Amendment to Grant Agreement | 1 | 1750 | 1750
Totals |  | 5250 | 5250

Total Annual Non-Hour Burden: There is no non-hour burden associated with this information collection; there are no filing fees for these forms.

We again invite comments on: (1) Whether the collection of information is necessary for the proper performance of the functions of the agency, including whether the information will have practical utility; (2) the accuracy of our estimate of the burden of the collection of information; (3) ways to enhance the quality, utility, and clarity of the information to be collected; and (4) ways to minimize the burden of collection of information on respondents, including through the use of appropriate automated, electronic, mechanical, or other technological collection techniques or other forms of information technology.

Dated: September 11, 2003.
Anissa Craghead,
Information Collection Officer.

[FR Doc. 03-23654 Filed 9-16-03; 8:45 am]

BILLING CODE 4310-55-P